NATIONAL MEDIATION BOARD

29 CFR Parts 1202 and 1206

[Docket No. C-6964]

RIN 3140-ZA00

Representation Election Procedure

AGENCY: National Mediation Board.

ACTION: Proposed rule; clarification.

SUMMARY: This document clarifies a proposed rule appearing in the Federal Register on November 3, 2009. The previous document did not include the factual basis for the National Mediation Board's certification, under Section 605 of the Regulatory Flexibility Act, that the proposed rule is not expected to have a significant economic impact on a substantial number of small entities. The proposed rule affects only the Board's election process and the method used by the Board to determine the outcome of a self-organization vote by employees. The proposed rule would not directly affect any small entities as defined under the Regulatory Flexibility Act. Accordingly, the National Mediation Board certifies that it will not have a significant impact on a substantial number of small entities.

DATES: Comments for the proposed rule published on November 3, 2009 (74 FR 56750) continue to be accepted until January 4, 2010.

FOR FURTHER INFORMATION CONTACT: Mary Johnson, General Counsel, National Mediation Board, 202-692-5050, infoline@nmb.gov.

SUPPLEMENTARY INFORMATION: This document clarifies the proposed rule published on November 3, 2009 at 74 FR 56750. The Board is proposing to amend its Railway Labor Act rules to provide that, in representation disputes, a majority of valid ballots cast will determine the craft or class representative.

Dated: December 1, 2009.
Mary Johnson,
General Counsel, National Mediation Board.

[FR Doc. E9-28981 Filed 12-3-09; 8:45 am]

BILLING CODE 7550-01-P